LEGAL SERVICES CORPORATION

Notice of Intent To Award—Grant Awards for the Provision of Civil Legal Services to Eligible Low-Income Clients, for Service Areas in Michigan, Beginning January 1, 2003

AGENCY: Legal Services Corporation.

ACTION: Announcement of intention to make FY 2003 Competitive Grant Awards.

SUMMARY: The Legal Services Corporation (LSC) hereby announces its intention to award grants and contracts to provide economical and effective delivery of high quality civil legal services to eligible low-income clients, for service areas in Michigan, beginning January 1, 2003.

DATES: All comments and recommendations must be received on or before the close of business on November 25, 2002.

ADDRESSES: Legal Services Corporation—Competitive Grants, Legal Services Corporation, 750 First Street NE., 10th Floor, Washington, DC 20002-4250.

FOR FURTHER INFORMATION CONTACT: Reginald Haley, Office of Program Performance, (202) 336-8827.

SUPPLEMENTARY INFORMATION: Pursuant to LSC's announcement of funding availability on August 22, 2002 (67 FR 54495), LSC will award funds to one or more of the following organizations to provide civil legal services in the indicated service areas. Funding amounts shown are based on the 2000 census data as discussed in LSC Program Letter 02-8. Amounts are subject to change.

State & service area | Applicant name | Anticipated FY 2003 award
Michigan:
MI-9 | Legal Services of Northern Michigan, Inc | $ 648,993
MI-12 | Legal Services of South Central Michigan, Inc | 1,169,064
MI-13 | Legal Aid and Defender Association, Inc | 3,507,603
MI-14 | Lakeshore Legal Aid | 1,261,424
MI-14 | Legal Services of Eastern Michigan | 1,261,424
MI-15 | Western Michigan Legal Services | 1,518,531
MMI | Legal Services of South Central Michigan, Inc | 441,801
NMI-1 | Michigan Indian Legal Services, Inc | 149,078

These grants and contracts will be awarded under the authority conferred on LSC by the Legal Services Corporation Act, as amended (42 U.S.C. 2996e(a)(1)). Awards will be made so that each service area is served, although none of the listed organizations are guaranteed an award or contract. This public notice is issued pursuant to the LSC Act (42 U.S.C. 2996f(f)), with a request for comments and recommendations concerning the potential grantees within a period of 30 days from the date of publication of this notice. Grants will become effective and grant funds will be distributed on or about January 1, 2003.

Dated: October 21, 2002.
Michael A. Genz,
Director, Office of Program Performance, Legal Services Corporation.

[FR Doc. 02-27148 Filed 10-24-02; 8:45 am]

BILLING CODE 7050-01-P